DEPARTMENT OF TRANSPORTATION

Federal Aviation Administration

Agency Information Collection Activity Under OMB Review, Request for Comments; Renewal of an Approved Information Collection Activity, Exemptions for Air Taxi and Commuter Air Carrier Operations

AGENCY: Federal Aviation Administration (FAA), DOT.

ACTION: Notice and request for comments.

SUMMARY: 14 CFR part 298 requires air carrier operators to obtain a certificate of public convenience and necessity from the DOT, with the exception of air taxi and commuter air operators. In order to be exempted from this requirement, such operators must apply for exemption with the DOT. This collection is used to ensure that affected companies comply with the requirements under this regulation.

DATES: Please submit comments by December 7, 2005.

ADDRESSES: Judy Street on (202) 267-9895.

FOR FURTHER INFORMATION CONTACT:

Federal Aviation Administration (FAA)

Title: Exemptions for Air Taxi and Commuter Air Carrier Operations.

Type of Request: Renewal of an approved collection.

OMB Control Number: 2120-0633.

Forms(s): OST Form 4507.

Affected Public: A total of 2,040 air taxi and commuter operators.

Frequency: The information is conducted on an as-needed basis.

Estimated Average Burden Per Response: Approximately 0.5 hours per response.

Estimated Annual Burden Hours: An estimated 1,026 hours annually.

Abstract: 14 CFR Part 298 requires air carrier operators to obtain a certificate of public convenience and necessity from the DOT, with the exception of air taxi and commuter air operators. In order to be exempt from this requirement, such operators must apply for exemption with the DOT. This collection is used to ensure that affected companies comply with the requirements under this regulation.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on October 28, 2005.
Judith D. Street,
FAA Information Collection Clearance Officer, Information Systems and Technology Services Staff, ABA-20.

[FR Doc. 05-22080 Filed 11-4-05; 8:45 am]

BILLING CODE 4910-13-M